DEPARTMENT OF ENERGY

Federal Energy Regulatory Commission

Notice of Competing Preliminary Permit Applications Accepted for Filing and Soliciting Comments, Motions To Intervene, and Competing Applications

| Project No.
Lock+™ Hydro Friends Fund XXIX | 14691-000
Energy Resources USA Inc. | 14709-000

On July 6, 2015, and September 2, 2015, Lock+™ Hydro Friends Fund XXIX and Energy Resources USA Inc. respectively, filed preliminary permit applications pursuant to section 4(f) of the Federal Power Act proposing to study the feasibility of a hydropower project, to be located at the U.S. Army Corps of Engineers' (Corps) Columbia Lock and Dam on the Ouachita River, near the city of Columbia in Caldwell County, Louisiana. The sole purpose of a preliminary permit, if issued, is to grant the permit holder priority to file a license application during the permit term. A preliminary permit does not authorize the permit holder to perform any land-disturbing activities or otherwise enter upon lands or waters owned by others without the owner's express permission.

Lock+™ Hydro Friends Fund XXIX's proposed project would consist of: (1) Three 109-foot-wide Large Frame Modules, each containing eight generating units, with a total capacity of 8 megawatts; (2) a 150-foot-long tailrace at the end of each Large Frame Module; (3) a 2.5-mile-long, 69-kilovolt transmission line; and (4) a new switchyard. The project would have an estimated annual generation of 45,500 megawatt-hours.

Applicant Contact: Mr. Wayne Krouse, P.O. Box 43796, Birmingham, AL 35243; (877) 556-6566, extension 709.

Energy Resources USA Inc.'s proposed project would consist of: (1) A 770-foot-long; 300-foot-wide intake area with a 40-foot-long retaining wall; (2) a 140-foot-wide; 90-foot-long reinforced concrete powerhouse containing two generating units with a total capacity of 9 megawatts; (3) a 1,000-foot-long; 220-foot-wide tailrace with a 40-foot-long retaining wall; (4) a 4.16/69 kilo-Volt (kV) substation; (5) a 3-mile-long, 69 kV transmission line. The project would have an estimated annual generation of 59,600 megawatt-hours.

Applicant Contact: Mr. Ander Gonzalez, 2655 Le June Road, Suite 804, Coral Gables, FL 33134; +34 93 252 3840.

FERC Contact: Chris Casey, (202) 502-8577.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14691-000 or P-14709-000.

More information about this project, including a copy of either application can be viewed or printed on the “eLibrary” link of Commission's Web site at http://www.ferc.gov/docs-filing/elibrary.asp. Enter the docket number (P-14691 or P-14709) in the docket number field to access the document. For assistance, contact FERC Online Support.

Dated: November 30, 2015.
Nathaniel J. Davis, Sr.,
Deputy Secretary.

[FR Doc. 2015-30703 Filed 12-4-15; 8:45 am]

BILLING CODE 6717-01-P